DEPARTMENT OF THE INTERIOR

National Park Service

[NPS-WASO-NAGPRA-NPS0040362; PPWOCRADN0-PCU00RP14.R50000]

Notice of Intended Repatriation: Gunn Memorial Library and Museum, Washington, CT

AGENCY: National Park Service, Interior.

ACTION: Notice.

SUMMARY: In accordance with the Native American Graves Protection and Repatriation Act (NAGPRA), the Gunn Memorial Library and Museum intends to repatriate certain cultural items that meet the definition of objects of cultural patrimony and that have a cultural affiliation with the Indian Tribes or Native Hawaiian organizations in this notice.

DATES: Repatriation of the cultural items in this notice may occur on or after July 17, 2025.

ADDRESSES: Send additional, written requests for repatriation of the cultural items in this notice to Corinne Tabolt, Collections Manager, Gunn Memorial Library and Museum, 5 Wykeham Road, Washington, CT 06793, email ctabolt@gunnlibrary.org.

SUPPLEMENTARY INFORMATION: This notice is published as part of the National Park Service's administrative responsibilities under NAGPRA. The determinations in this notice are the sole responsibility of the Gunn Memorial Library and Museum and additional information on the determinations in this notice, including the results of consultation, can be found in the summary or related records. The National Park Service is not responsible for the determinations in this notice.

Abstract of Information Available

A total of four cultural items have been requested for repatriation. The four objects of cultural patrimony are baskets, fire sticks, and a comb. Items are from the Northwestern coast/Washington region which were collected then given to Senator Orville H. Platt and his wife over the course of twenty years while he was a member of the Senate Committee on Indian Affairs from 1879-1905. Platt's wife, Jeannie, then donated the items to the Museum in 1908, as the first curator. The items were then given on permanent loan to the Institute of American Indian Studies in 1981. The Museum records indicate no known hazardous substances.

Determinations

The Gunn Memorial Library and Museum has determined that:

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Snoqualmie Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 17, 2025. If competing requests for repatriation are received, the Gunn Memorial Library and Museum must determine the most appropriate requestor prior to repatriation. Requests for joint repatriation of the cultural items are considered a single request and not competing requests. The Gunn Memorial Library and Museum is responsible for sending a copy of this notice to the Indian Tribes and Native Hawaiian organizations identified in this notice and to any other consulting parties.

Authority: Native American Graves Protection and Repatriation Act, 25 U.S.C. 3004 and the implementing regulations, 43 CFR 10.9.

Dated: June 6, 2025.
Melanie O'Brien,
Manager, National NAGPRA Program.

[FR Doc. 2025-11136 Filed 6-16-25; 8:45 am]

BILLING CODE 4312-52-P